POSTAL SERVICE

Privacy Act of 1974; System of Records

AGENCY: Postal Service™.

ACTION: Notice of modification to existing systems of records.

SUMMARY: The United States Postal Service® is proposing to modify two Customer Privacy Act Systems of Records. These updates are being made to account for additional communication methods that the Postal Service will use to contact customers with regard to the delivery of their mail and packages.

DATES: These revisions will become effective without further notice on February 20, 2014 unless comments received on or before that date result in a contrary determination.

ADDRESSES: Comments may be mailed or delivered to the Records Office, United States Postal Service, 475 L'Enfant Plaza SW., Room 9431, Washington, DC 20260-1101. Copies of all written comments will be available at this address for public inspection and photocopying between 8 a.m. and 4 p.m., Monday through Friday.

FOR FURTHER INFORMATION CONTACT: Matthew J. Connolly, Chief Privacy Officer, Privacy and Records Office, 202-268-8582.

SUPPLEMENTARY INFORMATION: This notice is in accordance with the Privacy Act requirement that agencies publish their amended systems of records in the Federal Register when there is a revision, change, or addition. The Postal Service™ has reviewed these systems of records and has determined that this General Privacy Act System of Records should be revised to modify categories of records in the system, purpose(s), and system manager(s) and address.

I. Background

To improve mail delivery and customer service, the Postal Service is enhancing current services to allow for customer notification upon delivery, and introducing new services and options that will enable customers to designate a specific location for the delivery of their mail and packages.

II. Rationale for Changes to USPS Privacy Act Systems of Records

The systems of records 820.200, Mail Management and Tracking Activity, and 880.000, Post Office and Retail Services, are being modified to account for the collection of a customer's text message number. The Postal Service will use the text message number to notify Collect On Delivery customers that their mail is ready to be delivered, to communicate with Package Intercept™ customers to re-route mail deliveries as requested, and to confirm that a package has been delivered to the specific locations requested by customers who use the forthcoming Electronically Authorize Shipment Release feature. The Postal Service also proposes to amend the purposes of each SOR to include providing customers with mail or package delivery options.

The Postal Service is also updating and deleting system manager titles to reflect the current structure of the organization.

III. Description of Changes to Systems of Records

The Postal Service is modifying two systems of records listed below. Pursuant to 5 U.S.C. 552a (e)(11), interested persons are invited to submit written data, views, or arguments on this proposal. A report of the proposed modifications has been sent to Congress and to the Office of Management and Budget for their evaluation. The Postal Service does not expect this amended notice to have any adverse effect on individual privacy rights. The affected systems are as follows:

USPS 820.200

SYSTEM NAME: Mail Management and Tracking Activity

USPS 880.000

SYSTEM NAME: Post Office and Retail Services

Accordingly, for the reasons stated, the Postal Service proposes changes in the existing systems of records as follows:

USPS 820.200

SYSTEM NAME:

Mail Management and Tracking Activity

CATEGORIES OF RECORDS IN THE SYSTEM

[CHANGE TO READ]

1. Customer information: Customer or contact name, mail and email address(es), title or role, phone number(s), text message number, and cellphone carrier.

* * * * *

PURPOSE

* * * * *

[ADD TEXT]

4. To provide customers with mail or package delivery options.

* * * * *

[RENUMBER REMAINING TEXT]

SYSTEM MANAGER(S) AND ADDRESS

[DELETE]

Vice President, Secure Digital Solutions, United States Postal Service, 475 L'Enfant Plaza SW., Washington, DC 20260.

[CHANGE TO READ]

Chief Information Officer and Executive Vice President, United States Postal Service, 475 L'Enfant Plaza SW., Washington, DC 20260.

* * * * *

USPS 880.000

SYSTEM NAME:

Post Office and Retail Services

CATEGORIES OF RECORDS IN THE SYSTEM

[CHANGE TO READ]

1. Customer information: Name, customer ID(s), customer Personal Identification Numbers (PINs), company name, phone number, text message number, mail and email address, record of payment, passport applications and a description of passport services rendered, and Post Office box and caller service numbers.

* * * * *

PURPOSE

* * * * *

[ADD TEXT]

2. To provide customers with mail or package delivery options.

* * * * *

[RENUMBER REMAINING TEXT]

SYSTEM MANAGER(S) AND ADDRESS

[CHANGE TO READ]

Chief Marketing/Sales Officer and Executive Vice President, United States Postal Service, 475 L'Enfant Plaza SW., Washington, DC 20260.

* * * * *

[DELETE]

Vice President, Global Business, United States Postal Service, 475 L'Enfant Plaza SW., Washington, DC 20260.

[ADD TEXT]

Vice President, Controller, United Stated Postal Service, 475 L'Enfant Plaza SW., Washington, DC 20260.

* * * * *

Stanley F. Mires,
Attorney, Legal Policy & Legislative Advice.

[FR Doc. 2014-00962 Filed 1-17-14; 8:45 am]

BILLING CODE 7710-12-P